DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of January, 2003.

In order for an affirmative determination to be made and a certification of eligibility to apply for worker adjustment assistance to be issued, each of the group eligibility requirements of Section 222 of the Act must be met.

(1) That a significant number or proportion of the workers in the workers' firm, or an appropriate subdivision thereof, have become totally or partially separated, or are threatened to become totally or partially separated; and

(2) That sales or production, or both, of the firm or sub-division have decreased absolutely, and

(3) That increases of imports of articles like or directly competitive with articles produced by the firm or appropriate subdivision have contributed importantly to the separations, or threat thereof, and to the absolute decline in sales or production of such firm or subdivision.

Negative Determinations for Worker Adjustment Assistance

In each of the following cases the investigation revealed that criterion (3) has not been met. A survey of customers indicated that increased imports did not contribute importantly to worker separations at the firm.

TA-W-41,053; Prime Manufacturing, a Div. of Dayton-Phoenix Group, Inc., Oak Creek, WI

TA-W-42,359A & B; Allegheny Ludlum Flat Roll Div., a subsidiary of Allegheny Technologies, Washington, PA and Melt Shop and Rolling Mill Div., Houston, PA

In the following case, the investigation revealed that the criteria for eligibility have not been met for the reasons specified.

Increased imports did not contribute importantly to worker separations at the firm.

TA-W-41,478; Radio Frequency Systems, Inc. (RFS), a wholly owned subsidiary of Alcatel North American Cable Systems, Inc., Marlboro, NJ

TA-W-42,173; ADC Telecommunications, Inc., U.A. Photonics Engineering and Manufacturing, Vadnais Heights, MN

In the following cases, the investigation revealed that the criteria for eligibility have not been met for the reasons specified.

The investigation revealed that criterion (a)(2)(A) (I.B.) (No Sales or Production declines) and (a) (2)(B) (II.B) (No shift in production to a foreign country) have not been met.

TA-W-50,239; Nestle Purina Petcare, St. Joseph, MO

The investigation revealed that criterion (a)(2)(A) (I.C.) (Increased imports) and (a)(2)(B) (II.B) (No shift in production to a foreign country) have not been met.

TA-W-50,170; Erasteel, Inc., McKeesport, PA

TA-W-50,048 & A; Cooper Industries, Cooper Power Systems Div., Waukesha, WI and South Milwaukee, WI

TA-W-50,030; F/V Kiavak, Kodiak, AK

TA-W-50,555; Jaurice, Inc., Bangor, PA

TA-W-50,401; FPL Nerngy, Yarmouth, ME

TA-W-50,139; Lau Industries, Inc., Fridley, MN

TA-W-50,303; Profuse Services, Inc., Merkel, TX

The workers' firm does not produce an article as required for certification under Section 222 of the Trade Act of 1974.

TA-W-42,314 & A, B; Pearson Education Technologies, a Div. of NCS Pearson, Mesa, AZ, east Lansing, MI and Sunnyvale, CA

TA-W-50,121; VMV Enterprises, Inc., Paducah, KY

The investigation revealed that criteria (2) has not been met. The workers' firm (or subdivision) is not an upstream supplier of components for trade-affected companies.

TA-W-50,343; Fashion Technologies, Inc., Gaffney, SC

Affirmative Determinations for Worker Adjustment Assistance

The following certifications have been issued; the date following the company name and location of each determination references the impact date for all workers of such determination.

TA-W-42,352; Pacific Electricord, a subsidiary of Leviton Manufacturing Co., Gardena, CA: October 10, 2001.

TA-W-42,316; Augusta Mills, a Div. of ATD American Co., Elkton, VA: October 15, 2001.

TA-W-42,359; Allegheny Ludlum, Washington Plate Div., a subsidiary of Allegheny Technologies, Washington, PA: November 1, 2001.

TA-W-42,209; Duro Industries, Inc./a/k/a Duro Textiles, LLC, Fall River, MA: April 14, 2002.

TA-W-42,203; Motorola, Semiconductor Products Sector, BAT-1, Austin, TX: September 30, 2001

The following certifications have been issued. The requirements of (a)(2)(A) (increased imports) of Section 222 have been met.

TA-W-50,241, A,B,C,D,E,F, G; National Spinning Co., Inc., Washington, NC, Lafayette, GA, Warsaw, NC, Whiteville, NC, Beulaville, NC, New York, NY, Burlington, NC and Kinston, NC: February 17, 2003.

TA-W-50,127; Orgreen Corp., Burns, OR: November 15, 2001.

TA-W-50,362; Rosal Sportswear, Lehighton, PA: December 10, 2001.

TA-W-50,393; Tredegar Corp., Tredegar Film Products Div., Carbondale, PA: November 7, 2001.

TA-W-50,317; FMC Corp., Hydrogen Peroxide Div., Spring Hill, WV: December 5, 2001.

TA-W-50,329; United States Forgecraft Corp., Fort Smith, AR: December 12, 2001.

TA-W-50,169; Smart Modular Technologies, Fremont, CA: November 21, 2001.

TA-W-50,268; American Tool Companies, Inc., Lexa, AR: December 4, 2001.

TA-W-50,161; Magruder Color Co., Inc., including leased workers of Algany Staffing Services and Stratus Services Group, Elizabeth, NJ: November 6, 2001.

TA-W-50,640; Pechiney Rolled Products LLC, Ravenswood, WV: December 23, 2001.

TA-W-50,378; NACCO Materials Handling Group, Inc., Lenoir, NC: December 12, 2001.

TA-W-50,365; Amital Spinning Corp., Wallace Plant, Wallace, NC: December 12, 2001.

TA-W-50,243; Worthington Steel, Jackson, MI: November 26, 2001.

TA-W-50,263; OMG Fidelity, Inc., a wholly owned subsidiary of The OM Group, Inc., Newark, NJ: December 4, 2002.

The following certifications have been issued. The requirements of (a)(2)(B) (shift in production) of Section 222 have been met.

TA-W-50,107; Optek Technology, Inc., Carrollton, TX: November 13, 2001.

TA-W-50,465; J.B. Tool and Machine, Inc., Wapakoneta, OH: December 31, 2001.

TA-W-50,207; Dana Corp., Commercial Vehicle Systems Div., Morganton, NC: November 19, 2001.

TA-W-50,104; Thermodisc, Inc., London, KY: November 14, 2001.

TA-W-50,063; Valeo Electrical Systems, Inc., Rochester, NY: November 6, 2001.

TA-W-50,574; Snap-On Diagnostics, Ekhorn, WI: January 15, 2002.

TA-W-50,573; Friwo-EMC, Inc., Colorado Springs, CO: November 18, 2001.

TA-W-50,397; Clorox Products Manufacturing Co., a wholly owned subsidiary of The Clorox Co., including leased workers of Kelly Services, Londonderry, NH: December 17, 2001.

TA-W-50,369; Akzo Nobel Polymer Chemicals LLC, a wholly owned subsidiary of Akzo Nobel, Burt, NY: December 10, 2001.

TA-W-50,339; Tower Automotive, Inc., Milwaukee, WI: December 9, 2001.

The following certification has been issued. The requirement of upstream supplier to trade certified primary firm has been met.

TA-W-50,395; Delafoil Ohio, Inc., Perrysburg, OH: December 18, 2001.

TA-W-50,395A; Delafoil Ohio, Inc., Pottstown, PA: January 7, 2002.

Also, pursuant to Title V of the North American Free Trade Agreement Implementation Act (Pub. L. 103-182) concerning transitional adjustment assistance hereinafter called (NAFTA-TAA) and in accordance with Section 250(a), Subchaper D, Chapter 2, Title II, of the Trade Act as amended, the Department of Labor presents summaries of determinations regarding eligibility to apply for NAFTA-TAA issued during the month of January, 2003.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-06312; Delphi Energy and Chassis, Dayton, OH.

NAFTA-TAA-07596; La Grange Foundry, Inc., La Grange, MO

Affirmative Determinations NAFTA-TAA

NAFTA-TAA-07614; Interlake Material Handling, Inc., Pontiac Manufacturing Plant, Pontiac, IL: February 10, 2001.

I hereby certify that the aforementioned determinations were issued during the months of January, 2003. Copies of these determinations are available for inspection in Room C-5311, U.S. Department of Labor, 200 Constitution Avenue, NW., Washington, DC 20210 during normal business hours or will be mailed to persons who write to the above address.

Dated: January 31, 2003.
Edward A. Tomchick,
Director, Division of Trade Adjustment Assistance.

[FR Doc. 03-4269 Filed 2-21-03; 8:45 am]

BILLING CODE 4510-30-P